DEPARTMENT OF ENERGY

Federal Energy Regulatory Commission

Combined Notice of Filings #1

Take notice that the Commission received the following electric corporate filings:

Docket Numbers: EC17-196-000.

Applicants: Kanstar Transmission, LLC, Midwest Power Transmission Arkansas, LLC.

Description: Application for Approval of the Disposition of Jurisdictional Facilities Under Section 203 of the Federal Power Act of Kanstar Transmission, LLC, et al.

Filed Date: 9/28/17.

Accession Number: 20170928-5181.

Comments Due: 5 p.m. ET 10/19/17.

Take notice that the Commission received the following electric rate filings:

Docket Numbers: ER17-2029-002.

Applicants: Entergy Arkansas, Inc.

Description: Tariff Amendment: EAI-ESI Reimbursement Agreement Resumption to be effective 8/1/2017.

Filed Date: 9/29/17.

Accession Number: 20170929-5088.

Comments Due: 5 p.m. ET 10/20/17.

Docket Numbers: ER17-2030-002.

Applicants: Entergy Louisiana, LLC.

Description: Tariff Amendment: ELL-ESI Reimbursement Agreement Resumption to be effective 8/1/2017.

Filed Date: 9/29/17.

Accession Number: 20170929-5089.

Comments Due: 5 p.m. ET 10/20/17.

Docket Numbers: ER17-2031-002.

Applicants: Entergy Mississippi, Inc.

Description: Tariff Amendment: EMI-ESI Reimbursement Agreement Resumption to be effective 8/1/2017.

Filed Date: 9/29/17.

Accession Number: 20170929-5090.

Comments Due: 5 p.m. ET 10/20/17.

Docket Numbers: ER17-2033-002.

Applicants: Entergy New Orleans, Inc.

Description: Tariff Amendment: ENO-ESI Reimbursement Agreement Resumption to be effective 8/1/2017.

Filed Date: 9/29/17.

Accession Number: 20170929-5091.

Comments Due: 5 p.m. ET 10/20/17.

Docket Numbers: ER17-2034-002.

Applicants: Entergy Texas, Inc.

Description: Tariff Amendment: ETI-ESI Reimbursement Agreement Resumption to be effective 8/1/2017.

Filed Date: 9/29/17.

Accession Number: 20170929-5092.

Comments Due: 5 p.m. ET 10/20/17.

Docket Numbers: ER17-2558-000.

Applicants: NTE Ohio, LLC.

Description: Baseline eTariff Filing: Baseline new to be effective 12/1/2017.

Filed Date: 9/28/17.

Accession Number: 20170928-5147.

Comments Due: 5 p.m. ET 10/19/17.

Docket Numbers: ER17-2559-000.

Applicants: California Independent System Operator Corporation.

Description: § 205(d) Rate Filing: 2017-09-28 Salt River Project EIM Implementation Agreement to be effective 4/1/2018.

Filed Date: 9/28/17.

Accession Number: 20170928-5157.

Comments Due: 5 p.m. ET 10/19/17.

Docket Numbers: ER17-2560-000.

Applicants: Avista Corporation.

Description: § 205(d) Rate Filing: Avista Corp NITSA BPA Kalispel SAT-1140 to be effective 10/1/2017.

Filed Date: 9/28/17.

Accession Number: 20170928-5160.

Comments Due: 5 p.m. ET 10/19/17.

Docket Numbers: ER17-2561-000.

Applicants: Southern California Edison Company.

Description: § 205(d) Rate Filing: Pechanga IFA and DSA, SA Nos. 976 and 977 to be effective 10/1/2017.

Filed Date: 9/29/17.

Accession Number: 20170929-5000.

Comments Due: 5 p.m. ET 10/20/17.

Docket Numbers: ER17-2562-000.

Applicants: Cleco Power LLC.

Description: § 205(d) Rate Filing: Amendment 2 to Interconnection Agreement between Cleco and LAGEN to be effective 10/1/2017.

Filed Date: 9/29/17.

Accession Number: 20170929-5067.

Comments Due: 5 p.m. ET 10/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 29, 2017.
Nathaniel J. Davis, Sr.,
Deputy Secretary.

[FR Doc. 2017-21869 Filed 10-10-17; 8:45 am]

BILLING CODE 6717-01-P